DEPARTMENT OF ENERGY

Federal Energy Regulatory Commission

[Docket No. RP01-404-000]

Overthrust Pipeline Company; Notice of Tariff Filing

May 7, 2001.

Take notice that on May 3, 2001, Overthrust Pipeline Company (Overthrust) tendered for filing of its FERC Gas Tariff, First Revised Volume No. 1, the following tariff sheets to be effective June 4, 2001:

Seventh Revised Sheet No. 1

Third Revised Sheet No. 11

Second Revised Sheets No. 13 and 14

Original Sheet No. 15

Third Revised Sheet No. 20

Second Revised Sheet No. 22

Tenth Revised Sheet No. 30

Original Sheet Nos. 78F to 78I

Overthrust states that the tendered tariff sheets revise Overthrust's FERC Gas Tariff to implement provisions permitting Overthrust and its shippers to negotiate mutually acceptable rates as provided by the Commission's Policy Statement issued January 31, 1996, in Docket No. RM95-6 (the Policy Statement). Overthrust's negotiated-rate option would apply to its open-access services under Rate Schedules FT and IT. In the Policy Statement, the Commission stated, among other things, that it would allow pipelines to implement a negotiated/recourse-rate program. Under such a program, the pipeline's existing tariff rates would constitute its recourse rates. With the implementation of this service, a shipper that voluntarily elects not to take transportation service under the recourse rate may negotiate with Overthrust for a rate that is not limited by the stated tariff rates.

Overthrust states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reverence Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11891 Filed 5-10-01; 8:45 am]

BILLING CODE 6717-01-M